CORPORATION FOR NATIONAL AND COMMUNITY SERVICE

Funding Opportunity for AmeriCorps*VISTA Financial Asset Development Projects, Placements of AmeriCorps*VISTA Members, and Supervisory Grants; Correction

AGENCY: Corporation for National and Community Service.

ACTION: Notice; correction.

SUMMARY: The Corporation for National and Community Service published a document in the Federal Register of December 14, 2001, concerning its funding opportunity for AmeriCorps*VISTA financial asset development projects, AmeriCorps*VISTA member placements, and supervisory grants. The document contained incorrect information.

FOR FURTHER INFORMATION CONTACT: Mr. David Gurr, (202) 606-5000, Ext. 212.

Correction

In the Federal Register of December 14, 2001, in FR Doc. 01-30843, on page 64806, in the second column, under SUMMARY, paragraph 4. The entire paragraph is corrected to read as follows:

A total of up to 400 AmeriCorps*VISTA members may be allocated for placement. Applicant organizations will be expected to place no less than three (3) AmeriCorps*VISTA members per site. Under this announcement, small supervision grants for all sponsors selected for a supervisory grant of up to approximately $200,000 total, will be considered based on the size and scope of the project. Short-term, eight-to-ten week summer placements may also be requested under this announcement.

Dated: December 19, 2001.
Matt Dunne,
Director, AmeriCorps*VISTA.

[FR Doc. 01-31700 Filed 12-26-01; 8:45 am]

BILLING CODE 6050-$$-P